PEACE CORPS

Information Collection Requests Under OMB Review

AGENCY: Peace Corps.

ACTION: Notice of public use form review request to the Office of Management and Budget. OMB Control #0420-0513, Correspondence Match Educator Enrollment Form and Teacher Survey.

SUMMARY: The Associate Director for Management invites comments on information collection requests as required pursuant to the Paperwork Reduction Act (44 U.S.C. Chapter 35). This notice announces that the Peace Corps has submitted to the Office of Management and Budget a request to approve the continued use of the PC-2042, Correspondence Match Educator Enrollment Form and Teacher Survey. Comments from the public are invited on whether the proposed collection of information is necessary for proper performance of the functions of the Peace Corps and the Paul D. Coverdell World Wise Schools' Correspondence Match program, including whether the information will have practical use; the accuracy of the agency's estimate of the burden of the proposed collection of information, including the validity of the methodology and assumptions used; ways to enhance the quality, utility, and clarity of the information to be collected; and ways to minimize the burden of the collection of information on those who are to respond, including through the use of automated collection techniques, when appropriate, and other forms of technology. A copy of the proposed information collections can be obtained from Sally Caldwell, Director of World Wise Schools, Peace Corps, Office of Domestic Programs, 1111 20th Street, NW., Washington, DC 20256. Ms. Caldwell may be contacted by telephone at 202-692-1425 or 800-424-8580, ext 1425 or e-mail at scaldwell@peacecorps.gov. Comments on the collections should be addressed to the attention of Ms. Caldwell and should be received on or before August 3, 2007.

Information Collection Abstract

Title: Correspondence Match Educator Enrollment Form and Teacher Survey.

Need for and Use of This Information: The Peace Corps and Paul D. Coverdell World Wise Schools need this information officially to enroll educators in the Correspondence Match program and to provide relevant services to its constituency. The information is used to make suitable matches between the educators and currently serving Peace Corps Volunteers as well as to assess programmatic functions.

Respondents: Educators interested in promoting global education in the classroom for the Correspondence Match Educator Enrollment Form. Correspondence Match educators for the Teacher Survey.

Respondents' Obligation to Reply: Both collections are voluntary.

Burden on the Public
| Educator form | Teacher survey
a. Annual reporting burden | 1667 hours |
b. Annual recordkeeping burden | 250 hours |
c. Estimated average burden per response | 10 minutes | 15 minutes.
d. Frequency of response | Annually | Once.
e. Estimated number of likely respondents | 10,000 | 3,000.
f. Estimated cost to respondents | $0.00/$8,900 | $0.00.

Dated: May 23, 2007.
Wilbert Bryant,
Associate Director for Management.

[FR Doc. 07-2750 Filed 6-1-07; 8:45 am]

BILLING CODE 6051-01-M